DEPARTMENT OF TRANSPORTATION

Federal Aviation Administration

14 CFR Part 71

[Airspace Docket No. 99-ASO-27]

Amendment of Class D Airspace; Jacksonville Whitehouse NOLF, FL

AGENCY: Federal Aviation Administration (FAA), DOT.

ACTION: Final rule; correction.

SUMMARY: This action corrects an error in the amendatory language of a final rule that was published in the Federal Register on January 10, 2000, (65 FR 1309), Airspace Docket No. 99-ASO-27.

EFFECTIVE DATE: January 26, 2000.

FOR FURTHER INFORMATION CONTACT: Nancy B. Shelton, Manager, Airspace Branch, Air Traffic Division, Federal Aviation Administration, P.O. Box 20636, Atlanta, Georgia 30320; telephone (404) 305-5627.

SUPPLEMENTARY INFORMATION:

History

Federal Register Document DOCID: fr10ja00-6, Airspace Docket No. 99-ASO-27, published on January 10, 2000, (65 FR 1309), amended Class D surface area airspace at Jacksonville Whitehouse NOLF, FL. An error was discovered in the amendatory language identifying the airspace description. This action corrects that error.

Correction to Final Rule

Accordingly, pursuant to the authority delegated to me, the publication for describing Jacksonville Whitehouse NOLF, FL, Class D surface area airspace at Jacksonville Whitehouse NOLF, FL, as published in the Federal Register on January 10, 2000, (65 FR 1309), (Federal Register Document DOCID: fr10ja00-6; page 1309), is corrected as follows:

Section 71.1 [Corrected]

* * * * *

ASO FL D Jacksonville Whitehouse NOLF, FL [Corrected]

By removing “be effective during the specific dates and times established in advance by a Notice to”

* * * * *

Issued in College Park, Georgia, on January 10, 2000.
Nancy B. Shelton,
Acting Manager, Air Traffic Division, Southern Region.

[FR Doc. 00-1815 Filed 1-25-00; 8:45 am]

BILLING CODE 4910-13-M